DEPARTMENT OF COMMERCE

International Trade Administration

[A-570-848]

Notice of Preliminary Results of Antidumping Duty New Shipper Reviews: Freshwater Crawfish Tail Meat from the People's Republic of China

AGENCY: Import Administration, International Trade Administration, Department of Commerce.

SUMMARY: The Department of Commerce (the Department) is conducting new shipper reviews of the antidumping duty order on freshwater crawfish tail meat from the People's Republic of China (PRC) in response to requests from North Supreme Seafood (Zhejiang) Co., Ltd. (North Supreme) and Shouzhou Huaxiang Foodstuffs Co., Ltd. (Shouzhou Huaxiang). Shouzhou Huaxiang's period of review (POR) is September 1, 2000 through August 31, 2001. North Supreme's POR is September 1, 2000 through October 15, 2001.

We preliminarily determine that sales by Shouzhou Huaxiang have been made below normal value (NV). We also preliminarily determine that sales by North Supreme have not been made below NV. The preliminary results are listed below in the section titled “Preliminary Results of Reviews.” If these preliminary results are adopted in our final results, for entries made by Shouzhou Huaxiang, we will instruct the U.S. Customs Service to assess antidumping duties based on the difference between the export price (EP) and NV. Interested parties are invited to comment on these preliminary results. (See the “Preliminary Results of Reviews” section of this notice.)

EFFECTIVE DATE: August 12, 2002.

FOR FURTHER INFORMATION CONTACT: Thomas Gilgunn or Scott Lindsay, Office of AD/CVD Enforcement VII, Import Administration, International Trade Administration, U.S. Department of Commerce, 14th Street and Constitution Avenue, NW, Washington, DC 20230; telephone: (202) 482-4236 or (202) 482-0780, respectively.

SUPPLEMENTARY INFORMATION:

The Applicable Statute

Unless otherwise indicated, all citations are to the Tariff Act of 1930, as amended (the Act). In addition, unless otherwise indicated, all citations to the Department's regulations are to 19 CFR part 351 (2001).

Background

The Department published in the Federal Register an antidumping duty order on freshwater crawfish tail meat from the People's Republic of China on September 15, 1997 (62 FR 48218). On September 18, 2001 the Department received a properly filed request for a new shipper review, in accordance with section 751(a)(2)(B) of the Act and section 351.214(c) of the Department's regulations, from North Supreme under the antidumping duty order on freshwater crawfish tail meat from the People's Republic of China. On September 26, 2001 the Department received a properly filed request for a new shipper review, in accordance with section 751(a)(2)(B) of the Act and section 351.214(c) of the Department's regulations, from Shouzhou Huaxiang under the antidumping duty order on freshwater crawfish tail meat from the PRC.

The new shipper requests were made pursuant to section 751(a)(2)(B) of the Act and section 351.214(b) of the Department's regulations, which state that, if the Department receives a request for review from an exporter or producer of the subject merchandise stating that it did not export the merchandise to the United States during the period of investigation (POI) and that such exporter or producer is not affiliated with any exporter or producer who exported the subject merchandise during that period, the Department shall conduct a new shipper review to establish an individual weighted-average dumping margin for such exporter or producer, if the Department has not previously established such a margin for the exporter or producer.

The regulations require that the exporter or producer shall include in its request, with appropriate certifications: (i) the date on which the merchandise was first entered, or withdrawn from warehouse, for consumption, or, if it cannot certify as to the date of first entry, the date on which it first shipped the merchandise for export to the United States, or if the merchandise has not yet been shipped or entered, the date of sale; (ii) a list of the firms with which it is affiliated; (iii) a statement from such exporter or producer, and from each affiliated firm, that it did not, under its current or a former name, export the merchandise during the period of investigation (POI); and (iv) in an antidumping proceeding involving inputs from a non-market-economy (NME) country, a certification that the export activities of such exporter or producer are not controlled by the central government. See 351.214(b)(2) of the Department's Regulations.

Pursuant to 19 CFR 351.214(b)(2)(i) and 19 CFR 351.214(b)(2)(iii)(A), in its September 18, 2001 request for review, North Supreme certified that it did not export the subject merchandise to the United States during the POI and that it is not affiliated with any company which exported subject merchandise to the United States during the POI. Pursuant to 19 CFR 351.214(b)(2)(iii)(B), North Supreme further certified that its export activities are not controlled by the central government of the PRC.

Pursuant to 19 CFR 351.214(b)(2)(i) and 19 CFR 351.214(b)(2)(iii)(A), in its September 26, 2001 request for review, Shouzhou Huaxiang certified that it did not export the subject merchandise to the United States during the POI and that it is not affiliated with any company which exported subject merchandise to the United States during the POI. Pursuant to 19 CFR 351.214(b)(2)(iii)(B), Shouzhou Huaxiang further certified that its export activities are not controlled by the central government of the PRC. These requests for new shipper reviews also included all documentation required under 19 CFR 351.214(b)(2)(iv).

The Department determined that each request met all of the requirements stipulated in section 351.214 of the regulations. On November 8, 2001, the Department published its initiation of these new shipper reviews for the period September 1, 2000 through August 31, 2001. See Freshwater Crawfish Tail Meat From the People's Republic of China: Initiation of New Shipper Antidumping Administrative Reviews, 66 FR 56536 (November 8, 2001).

On April 25, 2002, the Department received a request from North Supreme to extend its POR to include the entry date for its sales of crawfish tail meat, The Department determined that such an extension would not prevent the completion of the review within the regulatory time limits in accordance with section 351.214(f)(2)(ii) of the regulations. The Department extended the POR for North Supreme in this new shipper review by forty-five days, until October 15, 2001. See Memorandum to Barbara E. Tillman through Dana S. Mermelstein, from Holly Hawkins: Extension of the Period of Review in the New Shipper Administrative Review of Freshwater Crawfish Tail Meat From the People's Republic of China, dated April 29, 2002.

On April 30, 2002 the Department published an extension of the deadline for completion of the preliminary results of these new shipper reviews until August 5, 2002. See Notice of Extension of Time Limit for Preliminary Results of Antidumping Duty New Shipper Reviews: Freshwater Crawfish Tail Meat from the People 's Republic of China, 67 FR 21219 (April 30, 2002).

Scope of the Antidumping Duty Order

The product covered by these reviews is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10 and 1605.40.10.90, which are the new HTS numbers for prepared foodstuffs, indicating peeled crawfish tail meat and other, as introduced by the U.S. Customs Service in 2000, and HTS items 0306.19.00.10 and 0306.29.00, which are reserved for fish and crustaceans in general. The HTS subheadings are provided for convenience and Customs purposes only. The written description of the scope of this order is dispositive.

Verification

As provided in section 782(i) of the Act, we conducted verification of the responses of North Supreme and Shouzhou Huaxiang. We used standard verification procedures, including on-site inspection of the manufacturers' facilities and the examination of relevant sales and financial records. Our verification results are outlined in the public versions of the verification reports, which are on file in the Central Records Unit (CRU) located in room B-099 of the Main Commerce Building. (See the public versions of New Shipper Review of Freshwater Crawfish Tail Meat (tail meat) from the People's Republic of China (PRC) (A-570-848): Sales and Factors Verification Report for Shouzhou Huaxiang Foodstuffs Co., Ltd., and New Shipper Review of Freshwater Crawfish Tail Meat from the People's Republic of China (PRC) (A-570-848): Sales and Factors Verification Report for North Supreme Seafood Zhejiang Co., Ltd., dated July 17, 2002. (Shouzhou Huaxiang Verification Report and North Supreme Verification Report, respectively).)

New Shipper Status

Based on the questionnaire responses received from North Supreme and Shouzhou Huaxiang, and our verification thereof, we preliminarily determine that these companies have met the requirements to qualify as new shippers during the POR. We have determined that both companies made their first sale or shipment of subject merchandise to the United States during the POR, that these sales were bona fide sales, and that these companies were not affiliated with any exporter or producer that previously shipped to the United States.

Separate Rates

North Supreme and Shouzhou Huaxiang both requested a separate, company-specific rate. In their questionnaire responses, both companies stated that each is an independent legal entity.

To establish whether a company operating in an NME country is sufficiently independent to be entitled to a separate rate, the Department analyzes each exporting entity under the test established in Final Determination of Sales at Less Than Fair Value: Sparklers from the People's Republic of China, 56 FR 20588 (May 6, 1991) , as amplified by Final Determination of Sales at Less Than Fair Value: Silicon Carbide from the People's Republic of China, 59 FR 22585 (May 2, 1994). Under this policy, exporters in NMEs are entitled to separate, company-specific margins when they can demonstrate an absence of government control, in law and in fact, with respect to export activities. Evidence supporting, though not requiring, a finding of de jure absence of government control over export activities includes: 1) an absence of restrictive stipulations associated with an individual exporter's business and export licenses; 2) any legislative enactments decentralizing control of companies; and 3) any other formal measures by the government decentralizing control of companies. De facto absence of government control over exports is based on four factors: 1) whether each exporter sets its own export prices independently of the government and without the approval of a government authority; 2) whether each exporter retains the proceeds from its sales and makes independent decisions regarding the disposition of profits or financing of losses; 3) whether each exporter has the authority to negotiate and sign contracts and other agreements; and 4) whether each exporter has autonomy from the government regarding the selection of management.

De Jure Control

With respect to the absence of de jure government control over the export activities of all the companies reviewed, evidence on the record supports the claims by both North Supreme and Shouzhou Huaxiang that their export activities are not controlled by the government. Both North Supreme and Shouzhou Huaxiang submitted evidence of their legal rights to set prices independently of all government oversight. The business licenses of both companies indicate that they are permitted to engage in the exportation of crawfish. We find no evidence of de jure government control restricting these companies' exportation of crawfish.

In general, no export quotas apply to crawfish. Prior verifications have confirmed that there are no commodity-specific export licenses required and no quotas for the seafood category “Other,” which includes crawfish, in China's Tariff and Non-Tariff Handbook for 1996. In addition, we have previously confirmed that crawfish is not on the list of commodities with planned quotas in the 1992 PRC Ministry of Foreign Trade and Economic Cooperation document entitled Temporary Provisions for Administration of Export Commodities. (See Freshwater Crawfish Tail Meat From The People's Republic of China; Preliminary Results of New Shipper Review, 64 FR 8543 (February 22, 1999) and Freshwater Crawfish Tail Meat From the People's Republic of China; Final Results of New Shipper Review, 64 FR 27961 (May 24, 1999) (Ningbo New Shipper Review).)

The Administrative Regulations of the People's Republic of China for Controlling the Registration of Enterprises as Legal Persons (Legal Persons Law), issued on June 13, 1988 by the State Administration for Industry and Commerce of the PRC and provided for the record of this review, indicates a lack of de jure government control over privately-owned companies, such as North Supreme and Shouzhou Huaxiang, and that control over these enterprises rests with the enterprises themselves. The Legal Persons Law provides that, to qualify as legal persons, companies must have the “ability to bear civil liability independently” and the right to control and manage their businesses. These regulations also state that, as an independent legal entity, a company is responsible for its own profits and losses. See Notice of Final Determination of Sales at Less Than Fair Value: Manganese Metal from the People's Republic of China, 60 FR 56045 (November 6, 1995) (Manganese Metal). At verification, we saw that the business licenses for North Supreme and Shouzhou Huaxiang were granted in accordance with this law. The results of verification support the information provided regarding the Legal Persons Law. (See Shouzhou Huaxiang Verification Report and North Supreme Verification Report.) Therefore, we preliminarily determine that there is an absence of de jure control over export activity with respect to these firms.

De Facto Control

With respect to the absence of de facto control over export activities, the information submitted on the record and reviewed at verification, indicates that the management of North Supreme and Shouzhou Huaxiang are responsible for the determination of export prices, profit distribution, marketing strategy, and contract negotiations. Our analysis indicates that there is no government involvement in the daily operations or the selection of management for these companies. In addition, we have found that the respondents' pricing and export strategy decisions are not subject to the review or approval of any outside entity, and that there are no governmental policy directives that affect these decisions.

There are no restrictions on the use of export earnings. The company general managers of both North Supreme and Shouzhou Huaxiang have the right to negotiate and enter into contracts, and may delegate this authority to employees within their respective companies. There is no evidence that this authority is subject to any level of governmental approval. North Supreme and Shouzhou Huaxiang both stated that their management is selected by a board of directors and/or their employees, and that there is no government involvement in the selection process. Finally, decisions made by each respondent concerning purchases of subject merchandise from other suppliers are not subject to government approval. Consequently, because evidence on the record indicates an absence of government control, both in law and in fact, over the companies' export activities, we preliminarily determine that separate rates should be applied to both North Supreme and Shouzhou Huaxiang.

Application of Partial Adverse Facts Available

During the course of this new shipper review, the Department issued questionnaires to Shouzhou Huaxiang requesting that they provide factor of production information for our preliminary results. At verification, we found that Shouzhou Huaxiang's reported crawfish scrap and water factors were unverifiable. As a result, the Department has determined that it is appropriate to use facts otherwise available for the crawfish scrap and water factors of production in the calculation of normal value for Shouzhou Huaxiang's sales of crawfish tail meat.

Furthermore, section 776(b) of the Act provides that the Department may use an inference that is adverse to the interests of a party in selecting among the facts otherwise available if the Department finds that the party had failed to cooperate to the best of its ability. In this case, the Department has found that Shouzhou Huaxiang has failed to cooperate by not acting to the best of its ability by reporting unverifiable crawfish scrap and water factors of production. Shouzhou Huaxiang neither provided an explanation or notified the Department of any discrepancies or problems regarding its crawfish scrap and water factors. This information is within the sole possession of Shouzhou Huaxiang and cannot be obtained by the Department unless it is reported by Shouzhou Huaxiang. Moreover, this information is integral to our margin calculation for Shouzhou Huaxiang. We therefore determine that Shouzhou Huaxiang has failed to cooperate to the best of its ability in this new shipper review. Therefore, for the preliminary results of this review, we have made an inference that is adverse to Shouzhou Huaxiang in selecting from facts otherwise available for Shouzhou Huaxiang's crawfish scrap and water factors of production.

In addition, section 776(b) of the Act states that adverse facts available may include information derived from the petition, the final determination, a previous administrative review, or other information placed on the record. Section 776(c) of the Act provides that when the Department relies on secondary information, the Department shall, to the extent practicable, corroborate that information with independent sources reasonably at the Department's disposal. The Statement of Administrative Action (SAA) accompanying the URAA clarifies that the petition is secondary information. See SAA, H.R. Doc. 103-316 at 870 (1994). The SAA also clarifies that “corroborate” means to determine whether the information used has probative value. Id.

In this review, we are using, as adverse facts available, the lowest reported crawfish scrap to whole crawfish ratio and the highest reported water factor from the Freshwater Crawfish Tail Meat from the People's Republic of China; Notice of Final Results of Antidumping Duty Administrative Review, and Final Partial Rescission of Antidumping Duty Administrative Review, 67 FR 19546, (April 22, 2002) (Crawfish Final 1999/2000). See memorandum to file dated August 5, 2002, which places on the record of these reviews the “Freshwater Crawfish Tail Meat from The People's Republic of China Placement of Yancheng Haiteng's and Huaiyin30's factors of production from the 1999-2000 Administrative Review on to the Record of the Current Review” on the record of these new shipper reviews. These factors are corroborated, in accordance with section 776(c) of the Act, because each factor is based on actual information from a previous review. See the proprietary memorandum, “Determination of Partial Adverse Facts Available for Shouzhou Huaxiang Foodstuffs Co., Ltd. in the New Shipper Review of Freshwater Crawfish Tail Meat from the People's Republic of China,” dated August 5, 2002 which is in the CRU.

Normal Value Comparisons

To determine whether respondents' sales of the subject merchandise to the United States were made at prices below NV, we compared their United States prices to NV, as described in the “United States Price” and “Normal Value” sections of this notice.

United States Price

For North Supreme and Shouzhou Huaxiang, we based United States price on export price (EP) in accordance with section 772(a) of the Act, because the first sale to an unaffiliated purchaser was made prior to importation, and constructed export price (CEP) was not otherwise warranted by the facts on the record. We calculated EP based on the packed price from the exporter to the first unaffiliated purchaser in the United States. We deducted foreign inland freight from the starting price (gross unit price) in accordance with section 772(c) of the Act. Since the terms of sale for both Shouzhou Huaxiang's and North Supreme's sales were FOB China port, no other deductions for movement expenses were necessary.

Normal Value

Section 773(c)(1) of the Act provides that the Department shall determine NV using a factors-of-production methodology if (1) the merchandise is exported from an NME country, and (2) available information does not permit the calculation of NV using home-market prices, third-country prices, or constructed value under section 773(a) of the Act.

In every case conducted by the Department involving the PRC, the PRC has been treated as an NME country. Pursuant to section 771(18)(C)(i) of the Act, any determination that a foreign country is an NME country shall remain in effect until revoked by the administering authority. None of the companies contested such treatment in these reviews. Accordingly, we have applied surrogate values to the factors of production to determine NV. See Factor Values Memo for the Preliminary Results of the Antidumping Duty New Shipper Reviews of Freshwater Crawfish Tail Meat from the People's Republic of China, August 5, 2002 (Factor Values Memo).

We calculated NV based on factors of production in accordance with section 773(c)(4) of the Act and section 351.408(c) of our regulations. Consistent with the original investigation and the subsequent administrative reviews of this order, we determined that India (1) is comparable to the PRC in level of economic development, and (2) is a significant producer of comparable merchandise. With the exceptions of the whole live crawfish input and the crawfish scrap by-product, we valued the factors of production using publicly available information from India. We adjusted the Indian import prices by adding freight expenses to make them delivered prices.

We valued the factors of production as follows:

To value the input of whole crawfish we used publicly available Spanish import data of whole live crawfish from Portugal for September 2000 through August 2001. See Selection of Surrogate for the Valuation of Whole, Live Freshwater Crawfish in the 2000 - 2001 Administrative and New Shipper Reviews for Freshwater Crawfish Tail Meat from the People's Republic of China, dated August 5, 2002. We adjusted the values of whole live crawfish to include freight costs incurred between the supplier and the factory. For transportation distances used in the calculation of freight expenses on whole live crawfish, we added, to surrogate values from India, a surrogate freight cost using the shorter of (a) the distances between the closest PRC port and the factory, or (b) the distance between the domestic supplier and the factory. See Notice of Final Determination of Sales at Less Than Fair Value: Collated Roofing Nails From the People's Republic of China, 62 FR 51410 (October 1, 1997) (Roofing Nails).

To value the by-product of wet crawfish scrap, we used a price quote from Indonesia for wet crab and shrimp shells. See Surrogate Valuation of Shell Scrap: Freshwater Crawfish Tail Meat from the People's Republic of China (PRC), Administrative Review 9/1/00-8/31/01 and New Shipper Reviews 9/1/00-8/31/01 and 9/1/00-10/15/01, dated August 5, 2002.

To calculate a value for steam, we derived the values by: 1) noting the BTU equivalent of the steam, then 2) obtaining a ratio of steam to the BTU equivalent of natural gas, and 3) multiplying this ratio by the surrogate value of natural gas.

To value coal, we used the average 1996 total price of “steam coal for industry” as published in the International Energy Agency's publication, Energy Prices and Taxes, First Quarter, 2000. We adjusted the cost of coal to include an amount for transportation. To value electricity, we used the average of the 1997 total cost per kilowatt hour (KWH) for “Electricity for Industry” as reported in the International Energy Agency's publication, Energy Prices and Taxes, First Quarter, 2000. For water, we relied upon public information from the October 1997 Second Water Utilities Data Book: Asian and Pacific Region, published by the Asian Development Bank.

To achieve comparability of energy and water prices to the factors reported for the crawfish tail meat processing periods applicable to the companies under review, we adjusted these factor values to reflect inflation to the applicable crawfish processing season during the POR using the Wholesale Price Index (WPI) for India, as published in the 2001 International Financial Statistics (IFS) by the International Monetary Fund (IMF).

To value packing materials (plastic bags, cardboard boxes and adhesive tape), we relied upon Indian import data for the period August 2000 through January 2001 as reported in the Monthly Statistics of the Foreign Trade of India (Monthly Statistics). We adjusted these prices to reflect inflation to the crawfish processing season during the POR. We adjusted the values of packing materials to include freight costs incurred between the supplier and the factory. For transportation distances used in the calculation of freight expenses on packing materials, we added, to surrogate values from India, a surrogate freight cost using the shorter of (a) the distances between the closest PRC port and the factory, or (b) the distance between the domestic supplier and the factory. See Notice of Final Determination of Sales at Less Than Fair Value: Collated Roofing Nails From the People's Republic of China, 62 FR 51410 (October 1, 1997) (Roofing Nails).

To value factory overhead, selling, general, and administrative expenses (SG&A), and profit, we continued to use simple average derived from the publicly available 1996-97 financial statements of four Indian seafood processing companies. We applied these rates to the calculated cost of manufacture. See Factor Values Memorandum.

For labor, we used the PRC regression-based wage rate at Import Administration's home page, Import Library, Expected Wages of Selected NME Countries, revised in September 2001. Because of the variability of wage rates in countries with similar per capita gross domestic products, section 351.408(c)(3) of the Department's regulations requires the use of a regression-based wage rate. The source of these wage rate data on the Import Administration's web site is the Year Book of Labour Statistics 2000, International Labour Office (Geneva: 1998), Chapter 5: Wages in Manufacturing.

We valued movement expenses as follows: To value truck freight expenses we used seventeen price quotes from six different Indian trucking companies which were used in the antidumping investigation of Bulk Aspirin from the People's Republic of China, 65 FR 33805 (May 25, 2000). We adjusted the rates to reflect inflation to the month of sale of the finished product using the WPI for India from the IFS.

Currency Conversion

We made currency conversions pursuant to section 351.415 of the Department's regulations at the rates certified by the Federal Reserve Bank.

Preliminary Results of Reviews

We preliminarily determine that the following dumping margins exist:

Manufacturer and Exporter | Time Period | Margin (percent)
North Supreme Seafood (Zhejiang) Co., Ltd. | 9/1/00-10/15/01 | 0.00
Shouzhou Huaxiang Foodstuffs Co., Ltd. | 9/1/00-8/31/01 | 14.18

Cash-Deposit Requirements

If these preliminary results are not modified in the final results of these reviews, the following deposit rates will be effective upon publication of the final results of these new shipper reviews for all shipments of freshwater crawfish tail meat from the PRC entered, or withdrawn from warehouse, for consumption on or after publication date, as provided for by section 751(a)(2)(C) of the Act. The cash deposit rate for shipments produced and exported by Shouzhou Huaxiang will be the total amount of dumping duties divided by the total quantity exported during the POR. Since the margin for North Supreme is zero, no cash deposits would be required for shipments produced and exported by North Supreme. If these preliminary results are not changed in the final results, no other cash deposits under this order would be changed.

The Department will disclose calculations performed in connection with these preliminary results of reviews within five days of the date of publication of this notice in accordance with 19 CFR 351.224(b). Any interested party may request a hearing within 30 days of publication of this notice in accordance with section 351.310(c) of the Department's regulations. Any hearing would normally be held 37 days after the publication of this notice, or the first workday thereafter, at the U.S. Department of Commerce, 14th Street and Constitution Avenue N.W., Washington, DC 20230. Individuals who wish to request a hearing must submit a written request within 30 days of the publication of this notice in the Federal Register to the Assistant Secretary for Import Administration, U.S. Department of Commerce, Room 1870, 14th Street and Constitution Avenue, NW., Washington, DC 20230. Requests for a public hearing should contain: (1) the party's name, address, and telephone number; (2) the number of participants; and, (3) to the extent practicable, an identification of the arguments to be raised at the hearing.

Unless otherwise notified by the Department, interested parties may submit case briefs within 30 days of the date of publication of this notice in accordance with 351.309(c)(ii) of the Department's regulations. As part of the case brief, parties are encouraged to provide a summary of the arguments not to exceed five pages and a table of statutes, regulations, and cases cited. Rebuttal briefs, which must be limited to issues raised in the case briefs, must be filed within five days after the case brief is filed. If a hearing is held, an interested party may make an affirmative presentation only on arguments included in that party's case brief and may make a rebuttal presentation only on arguments included in that party's rebuttal brief. Parties should confirm by telephone the time, date, and place of the hearing 48 hours before the scheduled time.

The Department will issue the final results of these new shipper reviews, which will include the results of its analysis of issues raised in the briefs, within 90 days from the date of these preliminary results, unless the time limit is extended.

Assessment Rates

Upon completion of these new shipper reviews, the Department shall determine, and the U.S. Customs Service shall assess, antidumping duties on all appropriate entries. The Department will issue appraisement instructions directly to the U.S. Customs Service upon completion of these reviews. For assessment purposes, we calculated importer-specific assessment rates for freshwater crawfish tail meat from the PRC. We divided the total dumping margins (calculated as the difference between NV and EP) for each importer by the total quantity of subject merchandise sold to that importer during the POR. Upon the completion of these reviews, we will direct Customs to assess the resulting quantity-based rates against the weight in kilograms of each entry of the subject merchandise by the importer during the POR. See memorandum to file dated August 5, 2002, which places on the record of these reviews the “Memorandum to Barbara E. Tillman through Maureen Flannery, from Mark Hoadley: Collection of Cash Deposits and Assessment of Duties on Freshwater Crawfish from the PRC, dated August 27, 2001” on the record of these new shipper reviews.

Notification to Importers

This notice also serves as a preliminary reminder to importers of their responsibility under 351.402(f) of the Department's regulations to file a certificate regarding the reimbursement of antidumping duties prior to liquidation of the relevant entries during these review periods. Failure to comply with this requirement could result in the Secretary's presumption that reimbursement of antidumping duties occurred and the subsequent assessment of double antidumping duties.

These new shipper reviews and this notice are published in accordance with sections 751(a)(2)(B) and 777 (i)(1) of the Act.

Dated: August 5, 2002.
Faryar Shirzad,
Assistant Secretary for Import Administration.

[FR Doc. 02-20388 Filed 8-9-02; 8:45 am]

BILLING CODE 3510-DS-S